NUCLEAR REGULATORY COMMISSION

Sunshine Act Meetings

Agency Holding The Meetings: Nuclear Regulatory Commission.

Dates: Weeks of March 20, 27, April 3, 10, 17, 24, 2006.

Place: Commissioners' Conference Room, 11555 Rockville Pike, Rockville, Maryland.

Status: Public and closed.

Matters to be Considered:

Week of March 20, 2006

There are no meetings scheduled for the Week of March 20, 2006.

Week of March 27, 2006—Tentative

There are no meetings scheduled for the Week of March 27, 2006.

Week of April 3, 2006—Tentative

There are no meetings scheduled for the Week of April 3, 2006.

Week of April 10, 2006—Tentative

There are no meetings scheduled for the Week of April 10, 2006.

Week of April 17, 2006—Tentative

There are no meetings scheduled for the Week of April 17, 2006.

Week of April 24, 2006—Tentative

Monday, April 24, 2006

2 p.m. Meeting with Federal Energy Regulatory Commission (FERC) FERC Headquarters, 888 First St., NE., Washington, DC 20426 Room 2C (Public Meeting)

Thursday, April 27, 2006

1:30 p.m Meeting with Department of Energy (DOE) on New Reactor Issues (Public Meeting).

This meeting will be Webcast live at the Web address— http://www.nrc.gov.

* * * * *

*The schedule for Commission meetings is subject to change on short notice. To verify the status of meetings call (recording)—(301) 415-1292. Contact person for more information Michelle Schroll, (301) 415-1662.

* * * * *

The NRC Commission Meeting Schedule can be found on the Internet at: http://www.nrc.gov/what-we-do/policy-making/schedule/html.

* * * * *

The NRC provides reasonable accommodation to individuals with disabilities where appropriate. If you need a reasonable accommodation to participate in these public meetings, or need this meeting notice of the transcript or other information from the public meetings in another format (e.g. braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: March 16, 2006.
R. Michelle Schroll,
Office of the Secretary.

[FR Doc. 06-2777 Filed 3-17-06; 1:06 am]

BILLING CODE 7590-01-M